NEIGHBORHOOD REINVESTMENT CORPORATION

Sunshine Act Meetings

TIME AND DATE: 2 p.m., Thursday, February 18, 2021.

PLACE: Via Conference Call.

STATUS: Parts of this meeting will be open to the public. The rest of the meeting will be closed to the public.

MATTERS TO BE CONSIDERED: Regular Board of Directors meeting.

The General Counsel of the Corporation has certified that in his opinion, one or more of the exemptions set forth in 5 U.S.C. 552(b)(2) and (4) permit closure of the following portion(s) of this meeting:

Executive Session

Agenda

I. Call to Order

II. Executive Session: Report from CEO

III. Executive Session: Report of CFO

IV. Executive Session: NeighborWorks Compass Update

V. Action Item Approval of Minutes

VI. Action Item Recognition of Service for Deputy Secretary Brian Montgomery

VII. Action Item FY2021 All-Sources Budget

VIII. Discussion item Capital Corporations

IX. Management Program Background and Updates

X. Adjournment

Portions Open to the Public: Everything except the Executive Session.

Portions Closed to the Public: Executive Session.

CONTACT PERSON FOR MORE INFORMATION: Lakeyia Thompson, Special Assistant, (202) 524-9940; Lthompson@nw.org.

Lakeyia Thompson,
Special Assistant.

[FR Doc. 2021-03158 Filed 2-11-21; 4:15 pm]

BILLING CODE 7570-02-P